DEPARTMENT OF ENERGY

Federal Energy Regulatory Commission

[Docket No. RP03-319-001]

ANR Pipeline Company; Notice of Compliance Filing

June 3, 2003.

Take notice that on May 29, 2003, ANR Pipeline Company (ANR), tendered for filing as part of its FERC Gas Tariff, Second Revised Volume No. 1, Sub Fifth Revised Sheet No. 161A.02, with an effective date of May 1, 2003.

ANR states that the tariff sheet is being filed in compliance with the Commission's April 29, 2003, order accepting ANR's proposal, subject to the conditions in the order, to clarify ANR's right to allow contractual Rights of First Refusal pursuant to section 22.2 of the General Terms and Conditions of ANR's Tariff when contracts might otherwise not be eligible for such rights.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 10, 2003.
Magalie R. Salas,
Secretary.

[FR Doc. 03-14504 Filed 6-9-03; 8:45 am]

BILLING CODE 6717-01-P